NATIONAL FOUNDATION FOR THE ARTS AND THE HUMANITIES

Notice of Proposed Information Collection Requests: Public Libraries Survey, FY 2014-2016

AGENCY: Institute of Museum and Library Services, National Foundation for the Arts and the Humanities.

ACTION: Notice, request for comments, collection of information.

SUMMARY: The Institute of Museum and Library Service (“IMLS”) as part of its continuing effort to reduce paperwork and respondent burden, conducts a pre-clearance consultation program to provide the general public and federal agencies with an opportunity to comment on proposed and/or continuing collections of information in accordance with the Paperwork Reduction Act (44 U.S.C. 3501 et. seq.). This pre-clearance consultation program helps to ensure that requested data can be provided in the desired format, reporting burden (time and financial resources) is minimized, collection instruments are clearly understood, and the impact of collection requirements on respondents can be properly assessed. The purpose of this Notice is to solicit comments concerning the continuance of the Public Libraries Survey for Fiscal Years 2014-2016.

A copy of the proposed information collection request can be obtained by contacting the individual listed below in the ADDRESSES section of this notice.

DATES: Written comments must be submitted to the office listed in the ADDRESSES section below on or before August 20, 2013.

IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility and clarity of the information to be collected; and

• Minimize the burden of the collection of information on those who are to respond, including through the use of appropriate automated electronic, mechanical, or other technological collection techniques or other forms of information technology, e.g. permitting electronic submissions of responses.

ADDRESSES: For a copy of the documents contact: Deanne W. Swan, Senior Statistician, Office of Planning, Research, and Evaluation, Institute of Museum and Library Services, 1800 M Street NW., 9th Floor, Washington DC 20036. Dr. Swan can be reached by Telephone: 202-653-4769, Fax: 202-653-4601, or by email at dswan@imls.gov or by teletype (TTY/TDD) for persons with hearing difficulty at 202-653-4614.

SUPPLEMENTARY INFORMATION:

I. Background

The Institute of Museum and Library Services (IMLS) is an independent Federal grant-making agency and is the primary source of federal support for the Nation's 123,000 libraries and 17,500 museums. IMLS provides a variety of grant programs to assist the Nation's museums and libraries in improving their operations and enhancing their services to the public. IMLS is responsible for identifying national needs for and trends in museum, library, and information services; measuring and reporting on the impact and effectiveness of museum, library and information services throughout the United States, including programs conducted with funds made available by IMLS; identifying, and disseminating information on, the best practices of such programs; and developing plans to improve museum, library and information services of the United States and strengthen national, State, local, regional, and international communications and cooperative networks (20 U.S.C. Chapter 72, 20 U.S.C. 9108).

II. Current Actions

Pursuant to Public Law 107-279, this Public Libraries Survey collects annual descriptive data on the universe of public libraries in the U.S. and the Outlying Areas. Information such as public service hours per year, circulation of library books, number of librarians, population of legal service area, expenditures for library collection, programs for children and young adults, staff salary data, and access to technology, etc., would be collected. The Public Libraries Survey has been conducted by the Institute of Museum and Library Services under the clearance number 3137-0074, which expires December 31, 2013.

Agency: Institute of Museum and Library Services.

Title: Public Libraries Survey, 2014-2016.

OMB Number: 3137-0074.

Agency Number: 3137.

Affected Public: State and local governments, State library agencies, and public libraries.

Number of Respondents: 55.

Note: 55 is the number of State Library Administrative Agencies (SLAAs) that are responsible for the collection of this information and for reporting it to IMLS. In gathering this information, the SLAAs will request that their sub-entities (i.e., public libraries in their respective States and Outlying Areas) provide information to the respective SLAA. As the number of sub-entities and questions varies from SLAA to SLAA, it is difficult to assess the exact number of burden hours and costs.

Frequency: Annually.

Burden hours per respondent: 80.3

Total burden hours: 4254.

Total Annualized capital/startup costs: n/a.

Total Annual Costs: $116,929.

CONTACT: Kim A. Miller, Management Analyst, Office of Planning, Research, and Evaluation, Institute of Museum and Library Services, 1800 M Street NW., 9th Floor, Washington, DC 20036. Ms. Miller can be reached by Telephone: 202-653-4762, Fax: 202-653-4762, or by email at kmiller@imls.gov.

Dated: June 17, 2013.
Kim A. Miller,
Management Analyst, Office of Planning, Research, and Evaluation.

[FR Doc. 2013-14744 Filed 6-19-13; 8:45 am]

BILLING CODE 7536-01-P